CONSUMER PRODUCT SAFETY COMMISSION

16 CFR Part 1201

Petition Requesting Rulemaking To Revise Test Procedures for Glazing Materials in Architectural Products

AGENCY: Consumer Product Safety Commission.

ACTION: Comment request.

SUMMARY: The U.S. Consumer Product Safety Commission (“Commission” or “we”) has received a petition (CP12-3) requesting that the Commission initiate rulemaking to replace the testing procedures for glazing materials in certain architectural products set forth in our regulations, with those testing procedures contained in ANSI Z97.1, “American National Standard for Safety Glazing Materials Used in Building—Safety Performance Specifications and Methods of Test.” We invite written comments concerning the petition.

DATES: The Office of the Secretary must receive comments on the petition by October 29, 2012.

ADDRESSES: You may submit comments, identified by Docket No. CPSC-2012-0049, by any of the following methods:

Electronic Submissions

Submit electronic comments in the following way:

Federal eRulemaking Portal: http://www.regulations.gov. Follow the instructions for submitting comments.

To ensure timely processing of comments, the Commission is no longer accepting comments submitted by electronic mail (email), except through www.regulations.gov.

Written Submissions

Submit written submissions in the following way:

Mail/Hand delivery/Courier (for paper, disk, or CD-ROM submissions), preferably in five copies, to: Office of the Secretary, U.S. Consumer Product Safety Commission, Room 820, 4330 East-West Highway, Bethesda, MD 20814; telephone (301) 504-7923.

Instructions: All submissions received must include the agency name and petition number for this rulemaking. All comments received may be posted without change, including any personal identifiers, contact information, or other personal information provided, to: http://www.regulations.gov. Do not submit confidential business information, trade secret information, or other sensitive or protected information electronically. Such information should be submitted in writing.

Docket: For access to the docket to read background documents or comments received, go to: http://www.regulations.gov. A copy of the petition is available at http://www.regulations.gov, under Docket No. CPSC-2012-0049, Supporting and Related Materials.

FOR FURTHER INFORMATION CONTACT: Rochelle Hammond, Office of the Secretary, U.S. Consumer Product Safety Commission, Room 820, 4330 East-West Highway, Bethesda, MD 20814; telephone (301) 504-6833.

SUPPLEMENTARY INFORMATION: The Commission has received a submission from William M. Hannay, Attorney at Law, Counsel for Safety Glazing Certification Council (“petitioner”), dated June 26, 2012, requesting that the Commission initiate a rulemaking to replace the current testing procedures for glazing materials codified at 16 CFR 1201.4, with those contained in ANSI Z97.1, “American National Standard for Safety Glazing Materials Used in Building—Safety Performance Specifications and Methods of Test.” The Commission is docketing this request as a petition under the Consumer Product Safety Act (CPSA). 15 U.S.C. 2056 and 2058. The current standard for architectural glazing materials applies to glazing materials used or intended to be used in the architectural products subject to the standard, i.e., storm doors or combination doors, doors, bathtub doors and enclosures, shower doors and enclosures and sliding glass doors. The testing procedures set forth in Section 1201.4 require impact tests and accelerated environment durability tests which are intended to determine if glazing materials used in these architectural products meet safety requirements designed to reduce or eliminate unreasonable risks of death or serious injury to consumers when glazing material is broken by human contact. The testing procedures further describe the testing equipment and apparatus required to be used, and the test result interpretation methodology to be employed in determining if the glazing materials being tested meet the safety requirements of the standard.

Petitioner asserts that consumers and the glazing industry would be better served by replacing the test procedures for glazing materials used in the above-referenced architectural products in 16 CFR 1201.4 with ANSI Z97.1's purportedly more efficient and more modern procedures. Petitioner notes that the testing procedures set forth in Section 1201.4 were promulgated in 1977 and have not been updated or clarified since their original adoption by the Commission. Petitioner points out that the ANSI standard for glazing materials has been updated periodically (in 1984, 1994, 2004 and 2009) since the mandatory standard was promulgated, and that these updates include modifications in testing equipment and procedures that provide better protection for consumers.

Petitioner asserts that the absence of updates to the mandatory standard during a period in which the ANSI standard was revised four times has resulted in different testing methods and qualifying procedures that has created confusion in the industry regarding which test methodology must be used in what circumstance. Petitioner claims that the existence of overlapping but divergent mandatory and voluntary standards has created confusion for manufacturers in determining which standard applies, and resulted in manufacturers being required to pay for dual qualification testing, because different specifying agencies reference one or both standards. Petitioner also includes the proposed language that would replace the current Section 1201.4, directing manufacturers and private labelers of glazing material to test and certify the compliance of their products to the current ANSI standard.

By this notice, we seek comments concerning this petition. Interested parties may obtain a copy of the petition by writing or calling the Office of the Secretary, U.S. Consumer Product Safety Commission, Room 820, 4330 East-West Highway, Bethesda, MD 20814; telephone (301) 504-7923. A copy of the petition is also available at http://www.regulations.gov, under Docket No. CPSC-2012-0049, Supporting and Related Materials.

Dated: August 24, 2012.
Todd A. Stevenson,
Secretary, U.S. Consumer Product Safety Commission.

[FR Doc. 2012-21364 Filed 8-29-12; 8:45 am]

BILLING CODE 6355-01-P